Title 3—

The President

Executive Order 14015 of February 14, 2021

Establishment of the White House Office of Faith-Based and Neighborhood Partnerships

By the authority vested in me as President by the Constitution and the laws of the United States of America, and in order to better serve people in need through partnerships with civil society, while preserving our fundamental constitutional commitments, it is hereby ordered:

Section 1. Policy. Faith-based and other community-serving organizations are vital to our Nation's ability to address the needs of, and lift up, low-income and other underserved persons and communities, notably including persons of color. The American people are key drivers of fundamental change in our country, and few institutions are closer to the people than our faith-based and other community organizations. It is important that the Federal Government strengthen the ability of such organizations and other nonprofit providers in our communities to deliver services effectively in partnership with Federal, State, and local governments and with other private organizations, while preserving our fundamental constitutional commitments guaranteeing the equal protection of the laws and the free exercise of religion and forbidding the establishment of religion. The Federal Government can preserve these fundamental commitments while empowering faith-based and secular organizations to assist in the delivery of vital services in our neighborhoods. These partnerships are also vital for the success and effectiveness of the United States' diplomatic, international development, and humanitarian work around the world.

Sec. 2. Establishment. There is established a White House Office of Faith-Based and Neighborhood Partnerships (White House Partnerships Office) within the Executive Office of the President, supported by the Domestic Policy Council and the Office of Public Engagement, that will have lead responsibility in the executive branch for establishing policies, priorities, and objectives for the Federal Government's comprehensive effort to enlist, equip, enable, empower, and expand the work of community-serving organizations, both faith-based and secular, to the extent permitted by law.

Sec. 3. Functions. The principal functions of the White House Partnerships Office are, to the extent permitted by law:

(a) to assist in organizing more effective efforts to serve people in need across the country and around the world, in partnership with civil society, including faith-based and secular organizations;

(b) to develop, lead, and coordinate the Administration's policy agenda affecting faith-based and other community programs and initiatives and to optimize the role of such efforts in communities;

(c) to ensure that policy decisions and programs throughout the Federal Government are consistent with the policy set forth in section 1 of this order with respect to faith-based and other community initiatives;

(d) to bring concerns, ideas, and policy options to Administration leadership for assisting, strengthening, and replicating partnerships, whether financial or nonfinancial, with faith-based and other community organizations; and

(e) to promote awareness among diverse civil society leaders of opportunities to partner—both financially and otherwise—with the Federal Government to serve people in need and to build institutional capacity.

Sec. 4. Administration. (a) The White House Partnerships Office may make use of established or ad hoc committees, task forces, or interagency groups.

(b) The White House Partnerships Office shall be led by an Executive Director and a Deputy Director. The operations of the White House Partnerships Office shall begin within 30 days of the date of this order.

(c) The White House Partnerships Office shall coordinate with the liaison and point of contact designated by each executive department and agency (agency) with respect to this initiative.

(d) All agencies shall cooperate with the White House Partnerships Office and provide such information, support, and assistance to the White House Partnerships Office as it may request, to the extent permitted by law.

(e) In order to ensure that Federal programs and practices involving grants or contracts to faith-based organizations are consistent with applicable law, the Executive Director of the White House Partnerships Office, acting through the Counsel to the President, may seek the opinion of the Attorney General on any constitutional and statutory questions involving existing or prospective programs and practices.

Sec. 5. Amendments to Executive Orders. (a) Executive Order 13198 of January 29, 2001 (Agency Responsibilities With Respect to Faith-Based and Community Initiatives); Executive Order 13279 of December 12, 2002 (Equal Protection of the Laws for Faith-Based and Community Organizations), as amended by Executive Order 13559 of November 17, 2010 (Fundamental Principles and Policymaking Criteria for Partnerships With Faith-Based and Other Neighborhood Organizations); Executive Order 13280 of December 12, 2002 (Responsibilities of the Department of Agriculture and the Agency for International Development With Respect to Faith-Based and Community Initiatives); Executive Order 13342 of June 1, 2004 (Responsibilities of the Departments of Commerce and Veterans Affairs and the Small Business Administration With Respect to Faith-Based and Community Initiatives); and Executive Order 13397 of March 7, 2006 (Responsibilities of the Department of Homeland Security With Respect to Faith-Based and Community Initiatives), are amended by:

(i) substituting “White House Office of Faith-Based and Neighborhood Partnerships” for “White House Office of Faith-Based and Community Initiatives” and “White House Faith and Opportunity Initiative” each time they appear in those orders;

(ii) substituting “White House Office of Faith-Based and Neighborhood Partnerships” for “White House OFBCI” each time it appears in those orders;

(iii) substituting “Centers for Faith-Based and Neighborhood Partnerships” for “Centers for Faith-Based and Community Initiatives” and “Centers for Faith and Opportunity Initiatives” each time they appear in those orders; and

(iv) substituting “Center for Faith-Based and Neighborhood Partnerships” for “Center for Faith-Based and Community Initiatives” and “Center for Faith and Opportunity Initiatives” each time they appear in those orders.

(b) Executive Order 13397, as amended, is further amended by substituting, in section 1(b), “the Executive Director of the White House Office of Faith-Based and Neighborhood Partnerships (Executive Director)” for “the Director of the White House Office of Faith-Based and Community Initiatives (WHOFBCI Director)” and by substituting “Executive Director” for “WHOFBCI Director” each time it appears in the order.

Sec. 6. Revocation. Executive Order 13831 of May 3, 2018 (Establishment of a White House Faith and Opportunity Initiative), is revoked.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 14, 2021.

[FR Doc. 2021-03424

Filed 2-17-21; 8:45 am]

Billing code 3295-F1-P